FEDERAL COMMUNICATIONS COMMISSION

47 CFR Part 73

[DA 01-978, MM Docket No. 01-16, RM-10029]

Digital Television Broadcast Service; Eugene, OR

AGENCY: Federal Communications Commission.

ACTION: Final rule.

SUMMARY: The Commission, at the request of KEZI, Inc., licensee of station KEZI-TV, substitutes DTV channel 44 for DTV channel 14 at Eugene, Oregon. See 66 FR 8558, February 1, 2001. DTV channel 44 can be allotted to Eugene in compliance with the principle community coverage requirements of Section 73.625(a) at reference coordinates (44-06-57 N. and 122-59-57 W.) with a power of 548, HAAT of 501.5 meters and with a DTV service population of 441 thousand.

With this action, this proceeding is terminated.

DATES: Effective June 7, 2001.

FOR FURTHER INFORMATION CONTACT: Pam Blumenthal, Mass Media Bureau, (202) 418-1600.

SUPPLEMENTARY INFORMATION: This is a synopsis of the Commission's Report and Order, MM Docket No. 01-16, adopted April 18, 2001, and released April 23, 2001. The full text of this Commission decision is available for inspection and copying during normal business hours in the FCC Reference Center 445 12th Street, SW., Washington, DC. The complete text of this decision may also be purchased from the Commission's copy contractor, International Transcription Services, Inc., (202) 857-3800, 1231 20th Street, NW., Washington, DC 20036.

List of Subjects in 47 CFR Part 73

Television, Digital television broadcasting.

Part 73 of Title 47 of the Code of Federal Regulations is amended as follows:

47 CFR PART 73—[AMENDED]

1. The authority citation for Part 73 continues to read as follows:

Authority: 47 U.S.C. 154, 303, 334, 336.

§ 73.622 [Amended]

2. Section 73.622(b), the Table of Digital Television Allotments under Oregon, is amended by removing DTV channel 14 and adding DTV channel 44 at Eugene.

Federal Communications Commission.
Barbara A. Kreisman,
Chief, Video Services Division, Mass Media Bureau.

[FR Doc. 01-10157 Filed 4-23-01; 8:45 am]

BILLING CODE 6712-01-U